DEPARTMENT OF THE INTERIOR

Fish and Wildlife Service

[Docket No. FWS-R7-ES-2024-0128; FXES111607MRG01-245-FF07CAMM00]

Marine Mammal Protection Act; Draft Revised Stock Assessment Reports for Two Stocks of Polar Bears in Alaska

AGENCY: Fish and Wildlife Service, Interior.

ACTION: Notice of availability; request for comments.

SUMMARY: In accordance with the Marine Mammal Protection Act of 1972, as amended, and its implementing regulations, we, the U.S. Fish and Wildlife Service (FWS), have developed draft revised marine mammal stock assessment reports (SARs) for the Chukchi/Bering Seas and Southern Beaufort Sea polar bear (Ursus maritimus) stocks in Alaska. We invite comments on the two draft revised SARs from the public and from Federal, Tribal, State, and local governments.

DATES: We must receive comments by April 2, 2025. Comments submitted electronically using the Federal eRulemaking Portal (see ADDRESSES, below) must be received by 11:59 p.m. Eastern Time on the closing date.

ADDRESSES:

Obtaining Documents: You may view the draft revised stock assessment reports at https://www.regulations.gov under Docket No. FWS-R7-ES-2024-0128, or you may request copies from the contact under FOR FURTHER INFORMATION CONTACT.

Submitting Comments: You may submit comments by one of the following methods:

• Internet: https://www.regulations.gov. Search for and submit comments on FWS-R7-ES-2024-0128.

• U.S. mail: Public Comments Processing, Attn: Docket No. FWS-R7-ES-2024-0128, U.S. Fish and Wildlife Service, MS: PRB (JAO/3W), 5275 Leesburg Pike, Falls Church, VA 22041-3803.

We request that you send comments only by one of the methods described above. We will post all comments at https://www.regulations.gov. You may request that we withhold personal identifying information from public review; however, we cannot guarantee that we will be able to do so. For more information, see Public Comment Procedures under SUPPLEMENTARY INFORMATION.

FOR FURTHER INFORMATION CONTACT: Charles Hamilton, Marine Mammals Management, by telephone at 907-786-3800; by email at FW7_ak_marine_mammals@fws.gov; or by mail at U.S. Fish and Wildlife Service, MS-341, 1011 East Tudor Road, Anchorage, AK 99503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Marine Mammal Protection Act of 1972, as amended (MMPA; 16 U.S.C. 1361 et seq.), and its implementing regulations in the Code of Federal Regulations (CFR) at 50 CFR part 18, we, the FWS, have developed draft revised marine mammal stock assessment reports (SARs) for two stocks of polar bears. The draft revised SARs are for the Chukchi/Bering Seas and Southern Beaufort Sea polar bear (Ursus maritimus) stocks in Alaska. We invite comments on the two draft SARs from the public and from Federal, Tribal, State, and local governments.

Background

Under the MMPA and its implementing regulations, we regulate the taking, possession, transportation, purchasing, selling, offering for sale, exporting, and importing of marine mammals. One of the goals of the MMPA is to ensure that each stock of marine mammals occurring in waters under U.S. jurisdiction does not experience a level of human-caused mortality and serious injury that is likely to cause the stock to be reduced below its optimum sustainable population level (OSP). The MMPA defines the OSP as “the number of animals which will result in the maximum productivity of the population or the species, keeping in mind the carrying capacity of the habitat and the health of the ecosystem of which they form a constituent element” (16 U.S.C. 1362(9)).

To help accomplish the goal of maintaining marine mammal stocks at their OSPs, section 117 of the MMPA requires the FWS and the National Marine Fisheries Service (NMFS) to prepare a SAR for each marine mammal stock that occurs in waters under U.S. jurisdiction. When preparing SARs, section 117 of the MMPA also requires the FWS to consider the best scientific information available and consult with regional scientific review groups, established under section 117(d) of the MMPA. Pursuant to section 117(a) of the MMPA, each SAR must include: (1) A description of the stock and its geographic range; (2) a minimum population estimate, current and maximum net productivity rate, and current population trend; (3) an estimate of the annual human-caused mortality and serious injury of the stock by source and, for a strategic stock, other factors that may be causing a decline or impeding recovery of the stock, including effects on marine mammal habitat and prey; (4) commercial fishery interactions; (5) categorization of the status of the stock; and (6) an estimate on the potential biological removal (PBR) level.

The MMPA defines the PBR level as “the maximum number of animals, not including natural mortalities, that may be removed from a marine mammal stock while allowing that stock to reach or maintain its optimum sustainable population” (16 U.S.C. 1362(20)). The PBR is the product of the minimum population estimate of the stock (Nmin); one-half the maximum theoretical or estimated net productivity rate of the stock at a small population size (Rmax); and a recovery factor (Fr) of between 0.1 and 1.0, which is intended to compensate for uncertainty and unknown estimation errors. This can be written as:

PBR = Nmin × 0.5Rmax × FR

Section 117 of the MMPA also requires the FWS and NMFS to review the SARs (1) at least annually for stocks that are specified as strategic stocks; (2) at least annually for stocks for which significant new information is available; and (3) at least once every 3 years for all other stocks. If our review of the status of a stock indicates that it has changed or may be more accurately determined, then the SAR must be revised accordingly.

A strategic stock is defined in the MMPA as a marine mammal stock “(A) for which the level of direct human-caused mortality exceeds the PBR; (B) which, based on the best available scientific information, is declining and is likely to be listed as a threatened species under the Endangered Species Act of 1973 [as amended (16 U.S.C. 1531 et seq.] within the foreseeable future; or (C) which is listed as a threatened or endangered species under the ESA, or is designated as depleted under [the MMPA]” (16 U.S.C. 1362(19)).

Summary of Draft Revised Stock Assessment Reports

The SARs for the Chukchi/Bering Seas and Southern Beaufort Sea polar bear stocks in Alaska were last revised in 2021 (June 24, 2021; 86 FR 33337). In 2022, the FWS preliminarily concluded that stock assessment revisions are warranted for each of these stocks because the status of the stocks can be more accurately determined at this time. We based this determination on new information that has become available, such as new population estimates for these stocks, which allows us to better describe their statuses. The FWS consulted with the Alaska Regional Scientific Review Group, established under section 117 of the MMPA, on these draft revised SARs. Therefore, we are providing these draft revised SARs for public comment in accordance with section 117(b) of the MMPA.

Table 1 summarizes the draft revised SARs for the Chukchi/Bering Seas and Southern Beaufort Sea polar bear stocks, listing each stock's Nmin, Rmax, Fr, PBR, annual estimated human-caused mortality and serious injury, and status.

Table 1—Summary of Draft Revised Stock Assessment Reports for the Chukchi/Bering Seas and Southern Beaufort Sea Polar Bear Stocks
Stock | Nmin | Rmax (%) | Fr | PBR | Annual estimated human-caused mortality: Fishery/other | Annual estimated human-caused mortality: Subsistence | Stock status
Chukchi/Bering Sea | 2,172 | 10 | 0.48 | 52 | 0.1 ᵃ (US) | 13.6 (US), 32 ᵇ (RU) | Strategic.
Southern Beaufort Sea | 589 | 10 | 0.48 | 14 | 0.7 ᵃ (US) | 18.5 (US), 2.8 (CA) | Strategic.
US = United States, RU = Russian Federation, CA = Canada.
ᵃ 10-year average from July 1, 2013, through June 30, 2023.
ᵇ Kochnev and Zdor (2015).

Public Comment Procedures

If you wish to comment on either or both of the revised draft SARs, you may submit your comments by one of the methods in ADDRESSES. Please identify which draft revised SAR you are commenting on, make your comments as specific as possible, confine comments to issues pertinent to the draft revised SARs, and explain the reasons for any changes you recommend. Where possible, your comments should reference the specific section or paragraph of the SAR that you are addressing. We will consider all comments that are received by the close of the comment period (see DATES).

Comments, including names and addresses of respondents, will become part of the administrative record. Before including your address, telephone number, email address, or other personal identifying information in your comment, be advised that your entire comment, including your personal identifying information, may be made publicly available at any time. While you can ask us in your comments to withhold from public review your personal identifying information, we cannot guarantee that we will be able to do so.

References

The complete list of references used during the drafting of each of the draft revised SARs is available at https://www.regulations.gov under Docket FWS-R7-ES-2024-0128 and upon request from the Alaska Marine Mammals Management Office (see FOR FURTHER INFORMATION CONTACT).

Authority

The authority for this action is the Marine Mammal Protection Act of 1972, as amended (16 U.S.C. 1361 et seq.).

Gary Frazer,
Acting Director, U.S. Fish and Wildlife Service.

[FR Doc. 2024-31483 Filed 12-31-24; 8:45 am]

BILLING CODE 4333-15-P